DEPARTMENT OF DEFENSE

Department of the Army; Corps of Engineers

Intent To Prepare a Draft Environmental Impact Statement for the Lake Okeechobee Aquifer Storage and Recovery Pilot Project at Three Sites Adjacent to Lake Okeechobee, With Components in Martin, Okeechobee, and Glades Counties, FL

AGENCY: Department of the Army, U.S. Army Corps of Engineers.

ACTION: Notice of intent.

SUMMARY: The Jacksonville District, U.S. Army Corps of Engineers (Corps), intends to prepare an integrated Pilot Project Design Report and Draft Environmental Impact Statement (DEIS) for the Lake Okeechobee Aquifer Storage and Recovery (ASR) Pilot Project. The study is a cooperative effort between the Corps and the South Florida Water Management District (SFWMD), which is also a cooperating agency for this DEIS. One of the recommendations of the final report of the Central & South Florida (C&SF) Comprehensive Review Study (Restudy) was the Lake Okeechobee ASR Pilot Project. This project will determine the feasibility of using ASR technology for water storage and the treatment regimes needed for an operational ASR well system. It will also collect scientific data to address the uncertainties associated with the ASR technology and for future optimization and design studies.

FOR FURTHER INFORMATION CONTACT: Ms. Rebecca Weiss, U.S. Army Corps of Engineers, Planning Division, Environmental Branch, P.O. Box 4970, Jacksonville, FL 32232-0019, telephone (904) 899-5025.

SUPPLEMENTARY INFORMATION: a. Authorization: Section 101(a)(16) of the Water Resources Development Act of 1999 (WRDA 1999) (Pub. L. 106-53) authorized construction of two pilot projects, Lake Okeechobee ASR and Hillsboro ASR. Although these two pilot projects were authorized separate from the Central and Southern Florida Project, they are also integral elements of the Comprehensive Everglades Restoration Plan (CERP) as authorized in Title VI of WRDA 2000 (Pub. L. 105-541, Section 601). Therefore, these two projects were included in the CERP Design Agreement between the Corps and the local sponsor, SFWMD, and required design studies are now proceeding.

b. Project Scope: The Pilot project will determine the feasibility of ASR technology for water storage at each site, the water quality characteristics of source waters, native subsurface waters and recovered waters, appropriate water treatment requirements, and recommend operational goals for a full scale ASR project at Lake Okeechobee. As proposed, the pilot project would include construction at 3 locations of one ASR well, a surface water intake and discharge system, pre-injection and post recovery water treatment facilities, and other associated piping, treatment systems, and surface facilities. Each ASR well will be used to store and recover freshwater in the upper Floridian Aquifer System. After preliminary analysis of collected data, one site will be chosen for construction of 2 additional ASR wells and associated pumps, piping, water treatment facilities and monitoring wells, in order to test the effects of a multi-well facility.

Operational plans for the test pilot are to collect surface water from adjacent canal or tributaries, treat collected water to applicable drinking water quality standards, and inject water into the Floridian Aquifer System for a minimum of two cycle tests. Each cycle test includes a period of water storage followed by a period of recovery and discharge. Recovered water will be monitored and treated, if needed, to insure compliance with appropriate water quality standards prior to discharge into surface water or canal.

c. Preliminary Alternatives: Formulation of alternative plans will involve the selection of the most suitable site for the ASR wells, surface water collection system configuration, water treatment technologies, investigation of intake and discharge sites, and investigation of best configuration of surface facilities of the project. The DEIS will include an evaluation of adverse environmental impacts, including but not limited to, water quality, socio-economic, archaeological and biological. In addition to adverse impacts, the evaluation will also focus on how well the plans perform with regard to specific technologic performance measures.

d. Issues: The DEIS will consider impacts on water quality, ecosystem habitat, threatened and endangered species, health and safety, aesthetics and recreation, fish and wildlife resources, cultural resources, water availability, flood protection, and other potential impacts identified through scoping, public involvement, and interagency coordination.

e. Scoping: An initial public workshop was held in West Palm Beach on January 2001 to introduce the Lake Okeechobee pilot project plan and gather comments. In addition, a public workshop was held in West Palm Beach on January 2002 to identify public concerns related to ASR technology and regional implementation. A scoping letter will be issued in July 2002 to interested parties. All parties are invited to participate in the scoping process by identifying any additional concern on issues, studies needed, alternatives, procedures, and other matters related to the scoping process. At this time, there is no plan for a public scoping meeting.

f. Public Involvement: We invite the participation of affected Federal, state and local agencies, affected Indian tribes, and other interested private organizations and parties.

g. Coordination: The proposed action is being coordinated with the U.S. Fish and Wildlife Services (FWS) and the National Marine Fisheries Service under Section 7 of the Endangered Species Act, with the FWS under the Fish and Wildlife Coordination Act, and with the State Historic Preservation Officer.

h. Other Environmental Review and Consultation: The proposed action would involve evaluation for compliance with guidelines pursuant to Section 404(b) of the Clean Water Act; certification of state lands, easements and right of ways, and determination of Coastal Zone Management Act consistency.

i. Agency Role: As the cooperating agency, non-Federal sponsor, and leading local expert, SFWMD will provide information and assistance on the resources to be impacted and alternatives.

j. DEIS Preparation: The integrated Pilot Project Design Report, including a DEIS, is currently estimated for publication in November 2003.

Dated: July 10, 2002.
James C. Duck,
Chief, Planning Division.

[FR Doc. 02-18272 Filed 7-18-02; 8:45 am]

BILLING CODE 3710-AJ-M